DEPARTMENT OF COMMERCE

National Oceanic and Atmospheric Administration

RIN 0648-XC698

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold its 113th Scientific and Statistical Committee, Executive and Budget Standing Committee, Pelagic and International and Protected Species Standing Committee and the 157th Council Meeting to take actions on fishery management issues in the Western Pacific Region.

DATES: The meetings will be held from June 18, 2013 through June 27, 2013. All meetings will be held in Honolulu, HI. For specific times and agendas, see SUPPLEMENTARY INFORMATION.

ADDRESSES: The SSC, Executive and Budget Standing Committee and the Pelagic and International and Protected Species Standing Committee meetings will be held at the Council Office, 1164 Bishop Street, Suite 1400, Honolulu, HI 96813, telephone: (808) 522-8220. The 157th Council meeting will be held at the Laniakea YWCA-Fuller Hall, 1040 Richards Street, Honolulu, HI 96813, telephone: (808) 538-7061. The Fishers Forum will be held at the Harbor View Center, Pier 38, 1129 North Nimitz Highway, Honolulu, HI 96817, telephone: (808) 983-1200.

FOR FURTHER INFORMATION CONTACT: Kitty M. Simonds, Executive Director; telephone: (808) 522-8220.

SUPPLEMENTARY INFORMATION: The Scientific and Statistical Committee (SSC) will meet from June 18, 2013 to June 20, 2013 between 8:30 a.m. and 5 p.m.; the Council's Executive and Budget Standing Committee will meet on June 25, 2013 between 10 a.m. and 12 noon; the Pelagic and International and Protected Species Standing Committee will meet on June 25 between 1 p.m. and 4 p.m.; the 157th Council meeting will be held between 8:30 a.m. and 5:30 p.m. on June 26, 2013, between 8:30 a.m. and 5 p.m. on June 27, 2013, and between 8:30 a.m. and 5 p.m. on June 28, 2013. A Fishers Forum will be held in association with the 157th Council Meeting between 6 p.m. and 9 p.m. on June 27, 2013.

In addition to the agenda items listed here, the Council will hear recommendations from Council advisory groups. Public comment periods will be provided throughout the agendas. The order in which agenda items are addressed may change. The meetings will run as late as necessary to complete scheduled business.

Schedule and Agenda for 113th SSC Meeting

8:30 a.m.-5 p.m. Tuesday, June 18, 2013

1. Introductions

2. Approval of Draft Agenda and Assignment of Rapporteurs

3. Status of the 111th SSC Meeting Recommendations

4. Report from the Pacific Islands Fisheries Science Center (PIFSC) Director

5. Insular Fisheries

A. PIFSC Bottomfish Research

1. Life History Investigations

a. Challenges of Traditional Age Estimation of Hawaii Bottomfish

b. Age-Validated Life Histories of Bottomfish: Hawaii and the Western Pacific

2. Assessments

a. Report on Cooperative Research Cruise

b. Report on Bottomfish Restricted Fishing Area (BRFA) Evaluation

B. Plan Team Report

C. Public Comment

D. SSC Discussion and Recommendations

6. Program Planning

A. Re-specification of Acceptable Biological Catches (ABCs) (Action Item)

1. Evaluation of the 2012 Catches Relative to 2012 Annual Catch Limits (ACLs)

2. Modified Catch-Maximum Sustainable Yield (MSY) Approach to Specify ABCs

3. Options for Re-specifying ABCs

a. Coral Reef Management Unit Species

b. Crustaceans and Precious Corals

c. Main Hawaiian Island (MHI) Deep 7 Bottomfish

d. Non-deep 7 Bottomfish

4. Report from the P-star Working Group

B. Allocation

C. Subsistence Fisheries Definition

D. Cooperative Research Priorities

E. National Bycatch Report Update

F. Plan Team Report

G. Public Comment

H. SSC Discussion and Recommendations

8:30 a.m.-5 p.m. Wednesday, June 19, 2013

7. Pelagic Fisheries

A. Action Items

1. Modifying the Swordfish Trip Limit in the American Samoa Longline Fishery

2. Overfishing of Pacific Bluefin

3. Overfishing of North Pacific Western and Central Pacific Ocean (WCPO) Striped Marlin

4. Territory Longline Bigeye Tuna Limits

B. Fishery-induced Changes in the Sub-Tropical Pacific Pelagic Ecosystem

C. American Samoa and Hawaii Longline Quarterly Reports

D. International Fisheries Meetings

1. 85th Meeting of the Inter-American Tropical Tuna Commission (IATTC)

2. Forum Fisheries Agency (FFA)/Forum Fisheries Committee (FFC) Sub-committee on Tuna and Billfish

E. Pelagic Plan Team

F. Public Comment

G. SSC Discussion and Recommendations

8. Protected Species

A. Age-Structured Model of False Killer Whales

B. Papahanaumokuakea Associated Cetacean Ecology Survey (PACES)

C. Updates on Endangered Species Act (ESA) and Marine Mammal Protection Act Actions (MMPA)

1. Proposed Rule to List 66 Species of Coral as Endangered or Threatened under the ESA

2. Humphead Wrasse Status Review

3. Green Turtle Status Review

4. North Pacific Humpback Whale Petition

5. Shark Petitions

6. Proposed 2013 MMPA List of Fisheries

D. Report of the False Killer Whale Take Reduction Team Meeting

E. Western Pacific Stock Assessment Review (WPSAR) on False Killer Whale Genetic Studies

F. Public Comment

G. SSC Discussion and Recommendations

8:30 a.m.-5 p.m. Thursday, June 20, 2013

9. Other Business

A. 114th SSC Meeting

10. Summary of SSC Recommendations to the Council

10 a.m.-12 Tuesday, June 25, 2013

Executive and Budget Standing Committee Meeting

1 p.m.-4 p.m. Tuesday, June 25, 2013

Pelagic and International and Protected Species Standing Committee

Schedule and Agenda for 157th Council Meeting

8:30 a.m.-5:30 p.m. Wednesday, June 26, 2013

1. Welcome and Introductions

2. Approval of the 157th Agenda

3. Approval of the 156th Meeting Minutes

4. Executive Director's Report

5. Agency Reports

A. National Marine Fisheries Service (NMFS)

1. Pacific Islands Regional Office (PIRO)

2. Pacific Islands Fisheries Science Center (PIFSC)

B. NOAA Office of General Counsel (OGC), Pacific Islands Report

C. U.S. Fish and Wildlife Service

D. Enforcement

1. U.S. Coast Guard (To be presented at 1:30 p.m. Thursday afternoon (June 27) before agenda item 10. Program Planning)

2. NMFS Office for Law Enforcement

3. NOAA General Counsel for Enforcement and Litigation

E. U.S. State Department

F. Public Comment

G. Council Discussion and Action

6. Hawaii Archipelago and PRIAs

A. Moku Pepa

B. Department of Land and Natural Resources Report

1. Enforcement—Cooperative Enforcement

2. Legislation

3. Notice of Intent to Conduct an EIS for the Sanctuary

4. Boat-based Commercial Marine License (CML) Changes

C. Bottomfish Fishery

1. Report on State Evaluation of BRFAs through BotCam Research

2. Report on MHI Bottomfish Research Cruise

3. Challenges of Traditional Age Estimation of Hawaii Bottomfish

4. Age-validated Life Histories of Bottomfish: Hawaii and the Western Pacific

D. Community Projects, Activities and Issues

1. Community Development Project (CDP) Multi-fishery Proposal-Ohai

2. Maui Community Fish Aggregating Devices (FADs)

3. Report on Aha Moku Projects

E. Report on Northwestern Hawaiian Islands (NWHI) Monument Permits and Projects

F. Big Ocean—Network of Large Scale Marine Managed Areas

G. Hawaii Outreach Activities

H. Regional Ecosystem Advisory Committee (REAC) Report

I. Hawaii Advisory Panel Report

J. Plan Team Reports

K. SSC Recommendations

L. Public Comment

M. Council Discussion and Action

7. Pelagic & International Fisheries

A. Fishery-induced Changes in the Sub-Tropical Pacific Pelagic Ecosystem

B. Action Items

1. Modifying the Swordfish Trip Limit in the American Samoa Longline Fishery

2. Overfishing of Pacific Bluefin

3. Overfishing of North Pacific WCPO Striped Marlin

4. Territory Longline Bigeye Limit

C. American Samoa and Hawaii Longline Quarterly Reports

D. International Fisheries Meetings

1. 85th IATTC Resolution on Tropical Tunas

2. FFA/FFC Sub-committee on Tuna and Billfish

3. Western and Central Pacific Fisheries Commission (WCPFC) Workshop for Tropical Tunas Conservation

E. Advisory Panel Reports

F. Pelagic Plan Team

G. SSC Recommendations

H. Standing Committee Recommendations

I. Public Hearing

J. Council Discussion and Action

8. Public Comment on Non-Agenda Items

8:30 a.m.-5 p.m. Thursday, June 27, 2013

9. Protected Species

A. Age-structured Model of False Killer Whale

B. Update on ESA and MMPA Actions

1. Proposed Rule to List 66 Species of Coral as Endangered or Threatened under the ESA

2. Humphead Wrasse Status Review

3. Green Turtle Status Review

4. North Pacific Humpback Whale Petition

5. Shark Petitions

6. Proposed 2013 List of Fisheries

C. ESA Section 7 Consultation of the Hawaii Deep-set Longline Fishery

D. Update on the Monk Seal Recovery Program

E. Update on the CCC/MAFAC ESA Working Group

F. Report on False Killer Whale Take Reduction Team Meeting

G. Advisory Panel Reports

H. Plan Team Reports

I. SSC Recommendations

J. Standing Committee Report

K. Public Comment

L. Council Discussion and Action

10. Program Planning and Research

A. Action Items

1. Re-specification of Annual Catch Limits (ACLs)

a. Evaluation of the 2012 catches relative to 2012 ACLs

b. Modified catch-MSY approach to specify ABCs

c. Options for re-specifying ACLs

i. Coral Reef Management Unit Species

ii. Crustaceans & Precious Corals

iii. Main Hawaiian Island Deep 7 Bottomfish

iv. Main Hawaiian Island Non-deep 7 Bottomfish

2. Report from the P* Working Group

3. Marine Conservation Plan Modifications

B. National Bycatch Report Update

C. Allocation

D. Subsistence Fisheries Definition

E. Update on Pacific Islands Regional Planning Body

F. Marine Conservation Institute (MCI) Report on Large Ocean Area Closures

G. Cooperative Research Priorities

H. Report on Marine Education and Training (MET) and Monument Project Grants

I. NOAA Seafood Stamp of Approval

J. Report of Managing Our Nation's Fisheries 3rd Meeting

K. Recreational Fisheries Update

L. Education and Outreach

M. Asian American & Pacific Islands Initiative

N. Advisory Panel Reports

O. Plan Team Reports

P. SSC Recommendations

Q. Public Hearing

R. Council Discussion and Action

6 p.m.-9 p.m. Thursday, June 27, 2013

Fishers Forum

“King Shark: From Man? to Jaws—Culture Science and Management of Sharks in Hawaii”

8:30 a.m.-5 p.m. Friday, June 28, 2013

11. Mariana Archipelago

A. Island Reports

1. Arongo Flaeey

2. Isla Informe

B. Legislative Report

1. Commonwealth of the Northern Mariana Islands (CNMI)

2. Guam

C. Enforcement Issues

1. CNMI

2. Guam

D. PIRO/PIFSC Marianas Trench Monument

1. Final Rule for Fishing Regulations

2. Projects and Activities

E. Report on the Guam Military Base Data Collection Project

F. Community Development and Issues

1. Merizo Community Resource Planning

2. Guam Community Development Projects Status Report

3. Saipan Longline Dock Study

4. Saipan Fishermen's Association Cooperative

5. Military Build-up Activities

a. Tinian

b. Northern Islands

6. Marianas Skipjack Resource Assessment

G. Education and Outreach Initiatives

1. Radio Station Program

2. Community Events

H. Guam and CNMI Advisory Panel Reports

I. Plan Team Reports

J. SSC Recommendations

K. Public Comment

L. Council Discussion and Action

12. American Samoa Archipelago

A. Motu Lipoti

B. Fono Report

C. Enforcement Issues

D. Community Activities and Issues

1. Update on Community Fisheries Development

E. Update on American Samoa National Marine Sanctuary

F. Rose Atoll Marine National Monument

1. PIRO/PIFSC Monument Permits and Projects

2. Final Rule for Fishing Regulations

G. FFA Sub-Regional Satellite Fisheries Office

H. Education and Outreach Initiatives

I. American Samoa Advisory Panel Report

J. Plan Team Reports

K. SSC Recommendations

L. Public Comments

M. Council Discussion and Action

13. Administrative Matters

A. Financial Reports

B. Administrative Reports

C. NMFS/Council Coordination

1. Report of May 2013 Council Coordination Committee Meeting

2. Office of the Inspector General (OIG) Report

D. Report on Marine Fisheries Advisory Committee (MAFAC) Meeting

E. Council Family Changes

1. American Samoa Advisory Panel

2. Noncommercial Advisory Committee

3. Protected Species Committee

4. Education Ad hoc Committee

5. Coastal Marine Spatial Planning (CMSP) and Climate Change

6. SSC

F. Meetings and Workshops

G. Other Business

H. Standing Committee Recommendations

I. Public Comment

J. Council Discussion and Action

14. Other Business

Non-Emergency issues not contained in this agenda may come before the Council for discussion and formal Council action during its 157th meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: May 28, 2013.
Tracey L. Thompson,
Acting Deputy Director, Office of Sustainable Fisheries, National Marine Fisheries Service.

[FR Doc. 2013-12910 Filed 5-30-13; 8:45 am]

BILLING CODE 3510-22-P